DEPARTMENT OF AGRICULTURE

Submission for OMB Review; Comment Request

August 24, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 28, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Special Supplemental Nutrition Program for Women, Infants, and Children (WIC) Program Regulations—Reporting and Recordkeeping Burden.

OMB Control Number: 0584-0043.

Summary of Collection: The Special Supplemental Nutrition Program for Women, Infants, and Children (WIC) provides supplemental foods, nutrition education, including breastfeeding promotion and support, and health care referrals to low income, nutritionally at-risk pregnant, breastfeeding and postpartum women, infants, and children up to age five. Currently, WIC operates through State health departments in 50 States, 33 Indian Tribal Organizations, American Samoa, District of Columbia, Guam, Commonwealth of the Northern Mariana Islands, Puerto Rico, and the Virgin Islands. The Federal regulations governing the WIC Program (7 CFR part 246) require that certain program-related information be collected and that full and complete records concerning WIC operations are maintained. The WIC Program is authorized by the Child Nutrition Act of 1966, as amended.

Need and Use of the Information: The Food and Nutrition Service (FNS) collects information from state and local agencies, applicants, and retail vendors to determine eligibility in the WIC Program. This ongoing information collection is mandatory for state agencies and required to obtain or retain benefits for the WIC participants. This information includes participant certification information (e.g., income and nutrition risk); nutrition education documentation; local agency and vendor application and agreement information; vendor sales and shelf price data; data related to vendor monitoring and training; financial and food delivery system records, and Electronic Benefits Transfer (EBT) delivery. State Plans are the principal source of information about how each State agency operates its WIC Program. The information is needed for the general operation of the Program, including regulatory compliance, and for ongoing program integrity and cost-saving efforts. The information is also used by FNS to manage, plan, evaluate, make decisions, and report on WIC Program operations. If the information were not collected, the efficiency and effectiveness of the Program would be jeopardized, improper use of Federal funds would increase, and FNS' ability to detect violations would diminish greatly.

Description of Respondents: Individuals or Households; Businesses or Other for Profit; Not-for profit institutions; and State, Local, or Tribal Government.

Number of Respondents: 6,913,189.

Frequency of Responses: Recordkeeping; Reporting: Quarterly; Semi-annually; Monthly; Annually; and as Needed.

Total Burden Hours: 3,347,011.

Ruth Brown,
Departmental Information Collection Clearance Officer.

[FR Doc. 2020-18884 Filed 8-26-20; 8:45 am]

BILLING CODE 3410-30-P